DEPARTMENT OF COMMERCE

Foreign-Trade Zones Board

[B-26-2018]

Foreign-Trade Zone (FTZ) 38—Spartanburg, South Carolina; Notification of Proposed Production Activity; AFL Telecommunications, LLC, (Optical Cable for Data Transfer), Duncan, South Carolina

AFL Telecommunications, LLC (AFL) submitted a notification of proposed production activity to the FTZ Board for its facility in Duncan, South Carolina. The notification conforming to the requirements of the regulations of the FTZ Board (15 CFR 400.22) was received on April 11, 2018.

AFL indicates that it will be submitting a separate subzone application for FTZ designation at its facility under FTZ 38. The facility will be used for the production of optical cables for data transfer. Pursuant to 15 CFR 400.14(b), FTZ activity would be limited to the specific foreign-status materials and components and specific finished products described in the submitted notification (as described below) and subsequently authorized by the FTZ Board.

Production under FTZ procedures could exempt AFL from customs duty payments on the foreign-status components used in export production. On its domestic sales, for the foreign-status materials/components noted below, AFL would be able to choose the duty rates during customs entry procedures that apply to optical cables for data transfer (duty-free). AFL would be able to avoid duty on foreign-status components which become scrap/waste. Customs duties also could possibly be deferred or reduced on foreign-status production equipment.

The components and materials sourced from abroad include: Grease; silicon carbide grit; buffering gel; thixotropic gels of oil and silica; color chips; ink; glue; plastic jacketing compound; epoxy; silicone; acrylic plastic central strength member; plastic filler rod; mylar tape; plastic furcation tubing; jacket additive of polymerized plastic; aramid yarn; ripcord; binder string; water swellable yarn; water block tape; filler rod of fiberglass reinforced plastic; fiberglass reinforced plastic; tape or fiberglass yarn; copper clad steel wire; stainless steel tape; stainless steel wire; galvanized steel stranded wire; copper wire; bare stranded copper wire; aluminum alloy wire; aluminum tape; aluminum alloy rod; insulated copper wire; drawn optical glass in reel form; and, drawn optical glass bundles in reel form (duty rate ranges from duty-free to 8.8%, and $0.013/kg + 5.7%). The request indicates that aramid yarn, ripcord, binder string, and water swellable yarn will be admitted to the zone in privileged foreign status (19 CFR 146.41), thereby precluding inverted tariff benefits on such items.

Public comment is invited from interested parties. Submissions shall be addressed to the Board's Executive Secretary at the address below. The closing period for their receipt is June 4, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Juanita Chen at juanita.chen@trade.gov or 202-482-1378.

Dated: April 17, 2018.
Andrew McGilvray,
Executive Secretary.

[FR Doc. 2018-08464 Filed 4-23-18; 8:45 am]

BILLING CODE 3510-DS-P